DEPARTMENT OF COMMERCE

Patent and Trademark Office

United States Patent Applicant Survey

AGENCY: Patent and Trademark Office, Department of Commerce.

ACTION: Proposed collection; comment request.

SUMMARY: The United States Patent and Trademark Office (USPTO), as part of its continuing effort to reduce paperwork and respondent burden, invites the general public and other Federal agencies to take this opportunity to comment on the extension of a continuing information collection, as required by the Paperwork Reduction Act of 1995, Public Law 104-13 (44 U.S.C. 3506(c)(2)(A)).

DATES: Written comments must be submitted on or before August 3, 2007.

ADDRESSES: You may submit comments by any of the following methods:

E-mail: Susan.Fawcett@uspto.gov. Include “0651-0052 comment” in the subject line of the message.

Fax: 571-273-0112, marked to the attention of Susan Fawcett.

Mail: Susan K. Fawcett, Records Officer, Office of the Chief Information Officer, Customer Information Services Group, Public Information Services Division, U.S. Patent and Trademark Office, P.O. Box 1450, Alexandria, VA 22313-1450. Federal e-Rulemaking Portal: http://www.regulations.gov.

FOR FURTHER INFORMATION CONTACT: Requests for additional information should be directed to the attention of Gus Mastrogianis, Economist, Office of Corporate Planning, United States Patent and Trademark Office, P.O. Box 1450, Alexandria, VA 22313-1450; by telephone 571-272-6292; or by e-mail at gus.mastrogianis@uspto.gov.

SUPPLEMENTARY INFORMATION:

I. Abstract

For several years the USPTO has supported an ongoing forecasting program for patent application filings that includes the use of quantitative and qualitative methodologies. Given the importance of accurate application filings forecasts, the USPTO considers more than one type of methodology. As part of this strategy, information from a survey of the inventor community is included when formulating application filings forecasts. In addition to using the survey as part of a comprehensive approach to forecasting, the USPTO is also using this tool in response to Senate Appropriations Report 106-404 (September 8, 2000). This report directed the USPTO to “develop a workload forecast with advice from a representative sample of industry and the inventor community.” A patent application filing survey will assist the USPTO in better understanding key factors driving future application filings, such as newly emerging technologies.

The USPTO has developed the United States Patent Applicant Survey as part of the continuing effort to better predict the future growth of patent application filings by understanding applicant intentions. The main purpose of this survey is to determine the number of application filings that the USPTO can expect to receive over the next three years from patent-generating entities, ranging from large domestic corporations to independent inventors.

In recent years, the rate of patent application filings to the USPTO steadily increased with expanding technological innovations. However, newly emerging technologies, evolving business patenting strategies, patent valuations and costs, and intellectual property legislative changes, among other factors, may significantly impact patent applicants' decisions to file applications at the USPTO. These factors cannot easily be accounted for in other methodologies or sufficient information is not available from databases or other sources and it is necessary for the USPTO to conduct the Patent Applicant Survey to obtain information directly from applicants. The information will allow the agency to anticipate demand and estimate future revenue flow more reliably; to identify input and output triggers and allocate resources to meet and understand customer needs; and to reassess output and capacity goals and re-align organization quality control measures with applicant demand by division.

The Patent Applicant Survey is a mail survey, although respondents have the option to complete the survey electronically. They may also provide their responses verbally over the telephone. A survey packet, containing the survey, a cover letter explaining the purpose of and outlining instructions for completing the survey, and a postage-paid, pre-addressed return envelope will be mailed to all survey groups. The USPTO plans to survey four groups of respondents: Large domestic corporations (including those with 500+ employees), small and medium-size businesses, universities and non-profit research organizations, and independent inventors. The USPTO does not plan to survey foreign entities and will rely on the European Patent Office (EPO) and the Japan Patent Office (JPO) to provide forecasts of application filings by foreign entities. Due to variances in filing and the varying needs of the different patent applicant populations, the USPTO has developed two versions of the survey: One for the large domestic corporations and small and medium-size businesses and one for universities, non-profit research organizations, and independent inventors.

Since the initial survey, administered in late 2002, the USPTO has redesigned the survey to eliminate difficulties and coordinate analysis more easily with parallel surveys conducted concurrently by the European and Japan Patent Offices.

The surveys do not have USPTO form numbers associated with them and once they are approved, they will carry the OMB Control Number and the expiration date.

II. Method of Collection

By mail or electronically over the Internet when respondents elect the on-line option to complete the survey.

III. Data

OMB Number: 0651-0052.

Form Number(s): None

Type of Review: Extension of a currently approved collection.

Affected Public: Businesses or other for-profits and not-for-profit institutions.

Estimated Number of Respondents: 400 responses per year. Of this total, the USPTO expects that 267 surveys will be completed using the on-line option.

Estimated Time Per Response: The USPTO estimates that it will take approximately 30 minutes (0.50 hours) for all of the patent applicant populations to provide their responses, with the exception of the independent inventors. The USPTO estimates that it will take independent inventors approximately 15 minutes (0.25 hours) to provide their responses. These estimates include the time to gather the necessary information, complete the survey, and submit it to the USPTO. The USPTO believes that it will take the same amount of time to complete the surveys whether they are completed on paper and mailed to the USPTO or completed and submitted electronically.

Estimated Total Annual Respondent Burden Hours: 140 hours.

Estimated Total Annual Respondent Cost Burden: $4,340. The USPTO estimates that 31% of the respondents completing these surveys will be lawyers, about 9% will be legal assistants, and 60% of respondents will have diverse occupations. Using an estimated U.S. hourly rate of $54 for lawyers, a legal assistant rate of $24, and a rate of $20 for the majority of the respondents, the USPTO believes that the average hourly rate for those completing these surveys will be $31 per hour. Therefore, the USPTO estimates that the salary costs for the respondents completing these surveys will be $4,340.

Item | Estimated time for response (minutes) | Estimated annual responses | Estimated annual burden hours
Large Domestic Corporations | 30 | 27 | 14
Large Domestic Corporations (electronic surveys) | 30 | 53 | 27
Small and Medium-Size Businesses | 30 | 18 | 9
Small and Medium-Size Businesses (electronic surveys) | 30 | 37 | 19
Universities and Non-Profit Research Organizations | 30 | 5 | 3
Universities and Non-Profit Research Organizations (electronic surveys) | 30 | 10 | 5
Independent Inventors | 15 | 83 | 21
Independent Inventors (electronic surveys) | 15 | 167 | 42
Total |  | 400 | 140

Estimated Total Annual Non-hour Respondent Cost Burden: $0. There are no capital start-up, maintenance, or recordkeeping costs or filing fees associated with this information collection. The USPTO provides postage-paid, pre-addressed return envelopes for the completed mail surveys so there are no postage costs associated with this information collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: May 29, 2007
Susan K. Fawcett,
Records Officer, USPTO, Office of the Chief Information Officer, Customer Information Services Group, Public Information Services Division.

[FR Doc. E7-10672 Filed 6-1-07; 8:45 am]

BILLING CODE 3510-16-P